NATIONAL NANOTECHNOLOGY COORDINATION OFFICE

Nanoscale Science, Engineering and Technology Subcommittee, National Science and Technology Council, Committee on Technology; Nanomaterials and the Environment & Instrumentation, Metrology, and Analytical Methods Workshop: Nanotechnology Primer Public Pre-Meeting

ACTION: Notice of public meeting.

SUMMARY: The National Nanotechnology Coordination Office (NNCO), on behalf of the Nanoscale Science, Engineering, and Technology (NSET) Subcommittee of the Committee on Technology, National Science and Technology Council (NSTC), will hold a Nanotechnology Primer public pre-meeting on October 5, 2009, prior to the public meeting on Nanomaterials and the Environment & Instrumentation, Metrology, and Analytical Methods Workshop. The purpose of this pre-meeting is to provide general background material about nanotechnology and Federal nanotechnology research to participants.

DATES: A Nanotechnology Primer public pre-meeting will be held on Monday, October 5, 2009 from 7 p.m.-8:30 p.m.

ADDRESSES: The Nanotechnology Primer public pre-meeting will be held at the Holiday Inn Rosslyn-Key Bridge, 1900 N. Fort Myer Drive, Arlington, VA 22209 (Metro stop: Rosslyn on the Orange and Blue lines). For directions, please see http://www.holidayinn.com.

Registration: Due to space limitations, pre-registration for the workshop is required. People interested in attending the workshop and/or the Nanotechnology Primer should register online at http://www.nano.gov/html/meetings/environment/register.html. Written notices of participation by e-mail should be sent to environment@nnco.nano.gov. Written notices may be mailed to the Environment & IMA Workshop, c/o NNCO, 4201 Wilson Blvd., Stafford II, Suite 405, Arlington, VA 22230. Registration is on a first-come, first-served basis. Registration will close on October 2, 2009 at 4 p.m. EDT.

Information about the meeting, including the agenda, is posted at http://www.nano.gov.

FOR FURTHER INFORMATION CONTACT: For information regarding this Notice, please contact Liesl Heeter, telephone (703) 292-4533, or Heather Evans, telephone (703) 292-7916, National Nanotechnology Coordination Office. E-mail: environment@nnco.nano.gov.

SUPPLEMENTARY INFORMATION: The Nanotechnology Primer pre-meeting is to provide general background material about nanotechnology and Federal nanotechnology research and development efforts to interested participants, particularly those attending the Oct 6-7, 2009 Nanomaterials and the Environment & Instrumentation, Metrology and Analytical Methods workshop. The October 6-7 workshop is to engage in an active discussion and learn more about the state-of-the-science in these two research areas. The October 5, 2009 Nanotechnology Primer public pre-meeting is open to all interested parties on a space available basis.

David Hodge,
Operations Manager, OSTP.

[FR Doc. E9-23138 Filed 9-24-09; 8:45 am]

BILLING CODE 3170-W9-P